DEPARTMENT OF HEALTH AND HUMAN SERVICES

Health Resources and Services Administration

Funds for Leadership Training in Pediatric Dentistry's Current Grantees; One-Year Extension

AGENCY: Health Resources and Services Administration (HRSA), HHS.

ACTION: Notice of a Non-competitive One-Year Extension with Funds for Leadership Training in Pediatric Dentistry's (T17) Current Grantees.

SUMMARY: The Health Resources and Services Administration (HRSA) will be issuing a non-competitive one-year extension with funds for the Leadership Training in Pediatric Dentistry awards to Columbia University, The Regents of the University of California and the University of Washington. Up to $196,506 per grantee will be awarded over a one-year extended project period. The Leadership Training in Pediatric Dentistry program supports a national focus on leadership training in pediatric dentistry through the support of: (1) The postdoctoral training of dentists in the primary care specialty of pediatric dentistry for leadership roles in education, research, public health, advocacy, and public service related to oral health programs for populations of mothers and children (infants through adolescents), particularly children with special health care needs; (2) the development and dissemination of curricula, teaching models, and other educational resources to enhance maternal and child health (MCH) oral health programs; and (3) the continuing education, consultation, and technical assistance in pediatric oral health which address the needs of the MCH community. This extension with funds will allow HRSA's Maternal and Child Health Bureau (MCHB) to align its leadership training initiatives in oral health with HRSA's other oral health training investments.

SUPPLEMENTARY INFORMATION: Grantees of record and intended award amounts are:

Grantee/organization name | Grant number | State | FY2011 Authorized funding level | FY2012 Estimated funding level
Columbia University | T17MC06359 | NY | $196,506 | $196,506
The Regents of the University of California, Los Angeles | T17MC08055 | CA | 196,506 | 196,506
University of Washington | T17MC00020 | WA | 196,506 | 196,506

Amount of the Award(s): Up to $196,506 per grantee over a one-year project period.

CFDA Number: 93.110.

Current Project Period: 7/1/2007 through 6/30/2012.

Period of Supplemental Funding: 7/1/2012 through 6/30/2013.

Authority: Title V of the Social Security Act, Section 501(a)(2) (42 U.S.C. 701(a)(2)).

Justification

HRSA is extending funding for the Leadership Training in Pediatric Dentistry grants by one year for the following reason: MCHB has been working with leaders within HRSA involved in oral health, the Bureau of Health Professions (BHPr) on oral health training investments, and other oral health leaders in the field to align its leadership training in oral health with HRSA's other oral health training investments. With HRSA prioritizing oral health integration in primary care, MCHB is focusing on the best possible use of its funds to continue to promote oral health training in a coordinated way related to efforts and initiatives within HRSA and the field.

HRSA's BHPr plans to hold a stakeholders meeting on oral health training in 2012 that would impact the scope and nature of all HRSA's oral health training initiatives. To ensure coordinated and non-duplicative HRSA program planning and future oral health grant funding, it is crucial to fund MCHB's current training program for one year to sustain MCH oral health leadership training, while developing the next MCH oral health leadership training initiative in a systemically coordinated way with other HRSA oral health training initiatives.

FOR FURTHER INFORMATION CONTACT: Christopher Dykton, Health Resources and Services Administration, Maternal and Child Health Bureau, 5600 Fishers Lane, Room 18A-55, Rockville, Maryland 20857 or email cdykton@hrsa.gov.

Dated: February 10, 2012.
Mary K. Wakefield,
Administrator.

[FR Doc. 2012-3792 Filed 2-16-12; 8:45 am]

BILLING CODE 4165-15-P